FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than November 22, 2011.

A. Federal Reserve Bank of Minneapolis (Jacqueline G. King, Community Affairs Officer) 90 Hennepin Avenue, Minneapolis, Minnesota 55480-0291:

1. Gregory R. Raymo Revocable Living Trust Agreement, and Barbara J. Raymo, individually and as Co-Trustee, both of Worthington, Minnesota; to join the Gregory Raymo family group that currently consists of Gregory Raymo, and the First State Bank Southwest 2010 Amended and Restated KSOP Plan and Trust, Worthington, Minnesota, and acquire control of First Rushmore Bancorporation, Inc., Worthington, Minnesota, and thereby indirectly acquire control of First State Bank Southwest, Pipestone, Minnesota.

2. Patrick D. Wenning, and Pilar Wenning, both of Mound, Minnesota; to retain voting shares of Tradition Bancshares, Inc., and thereby indirectly retain control of Tradition Capital Bank, both in Edina, Minnesota.

Board of Governors of the Federal Reserve System, November 2, 2011.

Robert deV. Frierson,
Deputy Secretary of the Board.

[FR Doc. 2011-28760 Filed 11-4-11; 8:45 am]

BILLING CODE 6210-01-P